DEPARTMENT OF EDUCATION

Tests Determined To Be Suitable for Use in the National Reporting System for Adult Education

AGENCY: Office of Career, Technical, and Adult Education, Department of Education.

ACTION: Notice.

SUMMARY: The Secretary announces an extension of the sunset period for English as a Second Language (ESL) tests with National Reporting System for Adult Education (NRS) approvals that expired on February 2, 2024. The sunset period for these tests is extended to June 30, 2025. This notice relates to the approved information collections under OMB control numbers 1830-0027 and 1830-0567.

FOR FURTHER INFORMATION CONTACT: John LeMaster, Department of Education, 400 Maryland Avenue SW, Washington, DC 20202. Telephone: (202) 987-0903. Email: John.LeMaster@ed.gov.

If you are deaf, hard of hearing, or have a speech disability and wish to access telecommunications relay services, please dial 7-1-1.

SUPPLEMENTARY INFORMATION: On July 13, 2023, the Secretary published in the Federal Register (88 FR 44784) an annual notice announcing tests determined to be suitable for use in the NRS, in accordance with 34 CFR 462.13 (July 2023 notice). The July 2023 notice identified three new tests that measure the NRS educational functioning levels for Adult Basic Education (ABE) and four new tests that measure the new NRS educational functioning levels for ESL. With the Secretary's approval of the new ESL tests in the July 2023 notice, the new educational functioning levels for ESL described in appendix A of Measures and Methods for the National Reporting System for Adult Education (OMB Control Number: 1830-0027) were implemented.

Under the transition rules in § 462.4, the Secretary also announced in the July 2023 notice a list of tests with NRS approvals expiring on February 2, 2024, and March 7, 2024, that States and local eligible providers may continue to use during a sunset period ending on June 30, 2024.

In this notice, under the transition rules in § 462.4, the Secretary announces that the sunset period for ESL tests scheduled to sunset on June 30, 2024, is extended through June 30, 2025. This extension of the sunset period will allow States sufficient time for the operational activities required for the transition to the new ESL assessments identified in the July 2023 notice.

The ESL educational functioning level descriptors to which the ESL tests with expiring NRS approvals are aligned and that were scheduled to be retired on June 30, 2024, are extended through June 30, 2025. Until that time, both the current ESL educational functioning level descriptors and the new ESL educational functioning level descriptors will be in effect. States must use an ESL assessment that is aligned to the appropriate ESL educational functioning level descriptors.

Adult education programs must use only the forms and computer-based delivery formats for the tests approved in this notice. If a particular test form or computer delivery format is not explicitly specified for a test in this notice, it is not approved to measure educational gain in the NRS.

Tests With NRS Approvals That Expired on February 2, 2024, Previously Allowed for Use in the NRS During a Sunset Period Ending on June 30, 2024, and Now Allowed for Use During an Extended Sunset Period Ending on June 30, 2025

The Secretary has determined that the following tests may be used at all ESL levels of the NRS during an extended sunset period ending on June 30, 2025:

(1) Basic English Skills Test (BEST) Literacy. Forms B, C, and D are approved for use on paper. Publisher: Center for Applied Linguistics, 4646 40th Street NW, Washington, DC 20016-1859. Telephone: (202) 362-0700. Internet: www.cal.org.

(2) Basic English Skills Test (BEST) Plus 2.0. Forms D, E, and F are approved for use on paper and through the computer-adaptive delivery format. Publisher: Center for Applied Linguistics, 4646 40th Street NW, Washington, DC 20016-1859. Telephone: (202) 362-0700. Internet: www.cal.org.

(3) Comprehensive Adult Student Assessment Systems (CASAS) Life and Work Listening Assessments (LW Listening). Forms 981L, 982L, 983L, 984L, 985L, and 986L are approved for use on paper and through the computer-based delivery format. Publisher: CASAS, 5151 Murphy Canyon Road, Suite 220, San Diego, CA 92123-4339. Telephone: (800) 255-1036. Internet: www.casas.org.

(4) Comprehensive Adult Student Assessment Systems (CASAS) Reading Assessments (Life and Work, Life Skills, Reading for Citizenship, Reading for Language Arts—Secondary Level). Forms 27, 28, 81, 82, 81X, 82X, 83, 84, 85, 86, 185, 186, 187, 188, 310, 311, 513, 514, 951, 952, 951X, and 952X of this test are approved for use on paper and through the computer-based delivery format. Publisher: CASAS, 5151 Murphy Canyon Road, Suite 220, San Diego, CA 92123-4339. Telephone: (800) 255-1036. Internet: www.casas.org.

(5) Tests of Adult Basic Education Complete Language Assessment System-English (TABE/CLAS-E). Forms A and B are approved for use on paper and through a computer-based delivery format. Publisher: Data Recognition Corporation—CTB, 13490 Bass Lake Road, Maple Grove, MN 55311. Telephone: (800) 538-9547. Internet: www.tabetest.com.

Revocation of Tests

Under certain circumstances—that is, a determination by the Secretary either that the information the publisher submitted as a basis for the Secretary's review of the test was inaccurate or that a test has been substantially revised—the Secretary may revoke the determination that a test is suitable after following the procedures in § 462.12(e). If the Secretary revokes the determination of suitability, the Secretary announces the revocation, as well as the date by which States and local eligible providers must stop using the revoked test, through a notice published in the Federal Register and posted on the internet at www.nrsweb.org.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: 29 U.S.C. 3292.

Amy Loyd,
Assistant Secretary for Career, Technical, and Adult Education.

[FR Doc. 2024-05679 Filed 3-15-24; 8:45 am]

BILLING CODE 4000-01-P